DEPARTMENT OF ENERGY

10 CFR Parts 429 and 430

[EERE-2019-BT-TP-0012]

RIN 1904-AD86

Energy Conservation Program: Test Procedure for External Power Supplies

AGENCY: Office of Energy Efficiency and Renewable Energy, Department of Energy.

ACTION: Extension of public comment period.

SUMMARY: On December 6, 2019, the U.S. Department of Energy published a proposal to amend the test procedures for external power supplies. The proposal provided an opportunity for submitting written comments, data, and information by February 4, 2020. On January 21, 2020, DOE received a request from the USB Implementers Forum, Inc. to extend the public comment period by 14 days. DOE has reviewed this request and is granting the 14-day extension.

DATES: The comment period for the NOPR published on December 6, 2019 (84 FR 67106) is extended. DOE will accept comments, data, and information regarding this request for information received no later than February 18, 2020.

ADDRESSES: Interested persons are encouraged to submit comments using the Federal eRulemaking Portal at http://www.regulations.gov. Follow the instructions for submitting comments. Alternatively, interested persons may submit comments, identified by docket number EERE-2019-BT-TP-2012, by any of the following methods:

(1) Federal eRulemaking Portal: http://www.regulations.gov. Follow the instructions for submitting comments.

(2) Email: EPS2019TP0012@ee.doe.gov. Include the docket number EERE-2019-BT-TP-2012 or regulatory information number (RIN) 1904-AD86 in the subject line of the message.

(3) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(4) Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted. For detailed instructions on submitting written comments and additional information on the rulemaking process, see section V of the proposal published on December 6, 2019.

Docket: The docket, which includes Federal Register notices, public meeting attendee lists and transcripts, comments, and other supporting documents/materials, is available for review at http://www.regulations.gov. All documents in the docket are listed in the http://www.regulations.gov index. However, some documents listed in the index, such as those containing information that is exempt from public disclosure, may not be publicly available. The docket web page can be found at http://www.regulations.gov/docket?D=EERE-2019-BT-TP-0012. The docket web page will contain simple instructions on how to access all documents, including public comments, in the docket.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment or review other public comments and the docket contact the Appliance and Equipment Standards Program staff at (202) 287-1445 or by email: ApplianceStandardsQuestions@ee.doe.gov.

SUPPLEMENTARY INFORMATION: On December 6, 2019, DOE published a notice of proposed rulemaking (“NOPR”) to revise its test procedure for testing the energy efficiency of a regulated external power supply (“EPS”). 84 FR 67106. The NOPR raised a variety of definitional issues, including the possibility of adding a definition for “commercial and industrial power supply” to DOE's regulations to differentiate between EPSs and other non-consumer power supplies that are not subject to the test procedure. The proposal also sought feedback on how to address an adaptive EPS that conforms to the Universal Serial Bus Power Delivery (“USB-PD EPS”) specifications in a manner more representative of its actual use. Further, the NOPR sought feedback regarding proposed instructions for testing single-voltage EPSs that have multiple output busses. Lastly, DOE proposed to reorganize the test procedure to centralize definitions, consolidate generally applicable requirements, and better delineate requirements for single-voltage, multiple-voltage, and adaptive EPSs.

The USB Implementers Forum, Inc. (“USB-IF”), an organization supporting the advancement and adoption of USB technology, requested a two-week extension of the public comment period for the NOPR (USB-IF, No. 6, at p. 1) on January 21, 2020.

DOE believes that extending the comment period to allow additional time for interested parties to submit comments is appropriate. Therefore, DOE is extending the comment period until February 18, 2020, to provide interested parties additional time to prepare and submit comments. Comments received between the original February 4, 2020, closing date and the new February 18, 2020, closing date are considered timely filed. Therefore, individuals who submitted late comments during the original comment period do not need to re-submit comments.

Signed in Washington, DC, on January 27, 2020.
Alexander N. Fitzsimmons,
Acting Deputy Assistant Secretary for Energy Efficiency, Energy Efficiency and Renewable Energy.

[FR Doc. 2020-02122 Filed 2-3-20; 8:45 am]

BILLING CODE 6450-01-P